DEPARTMENT OF COMMERCE

National Oceanic and Atmospheric Administration

RIN 0648-XE038

Pacific Fishery Management Council; Public Meetings and Hearings

AGENCY: National Marine Fisheries Service (NMFS), National Oceanic and Atmospheric Administration (NOAA), Commerce.

ACTION: Notice of a public work session.

SUMMARY: NMFS has reinitiated consultation under the Endangered Species Act (ESA) on the effects to listed Pacific salmon species from implementation of the Pacific Coast Groundfish Fishery Management Plan. NMFS announces a public work session for interested stakeholders to provide input relative to managing the impacts to salmon from the groundfish fisheries. NMFS is seeking information on the amount and distribution of salmon bycatch, salmon bycatch management in the different sectors of the groundfish fishery, and whether stakeholders anticipate changes in fishing strategies or target species over the next few years that could alter the amount and distribution of salmon bycatch. NMFS and the Pacific Fishery Management Council (Council) will consider the information discussed at the work session in developing and evaluating the proposed action for the ESA consultation.

DATES: The work session will be held as a Webinar on Wednesday July 29, 2015 from 9 a.m. to 2 p.m. Pacific Daylight Time, or until business for the day has been completed. Written comments will also be accepted via email. To be considered in the work session report to the Pacific Fishery Management Council (Council), email comments must be received no later than noon August 7, 2015.

ADDRESSES: Written comments may be submitted via email to GroundfishBO2015.wcr@noaa.gov.

FOR FURTHER INFORMATION CONTACT: Persons who wish to receive further information about the work session or have questions about this notice should contact Kevin Duffy at kevin.duffy@noaa.gov or Becky Renko at becky.renko@noaa.gov.

SUPPLEMENTARY INFORMATION:

General

a. How may I participate in this webinar? To join the Webinar visit this Internet link: www.gotomeeting.com/online/webinar/join-webinar and enter the Webinar ID: 110-773-275. Your name and email address are required. To join the audio, participants can use their computer's microphone and speakers (VoIP) or use their telephone: Toll: +1 (415) 655-0059; Attendee Access Code: 227-478-994. The Audio Pin will be shown after joining the webinar.

System Requirements for participation: For PC-based attendees the system requires Windows® 7, Vista, or XP; for Mac®-based attendees the system requires Mac OS® X 10.5 or newer; for Mobile attendees the system requires iPhone®, iPad®, Android™ phone or Android tablet.

b. How can I get a copy of the webinar materials? The Webinar will be based on documents that are available online in the Council's June 2015 briefing book under agenda item D.3. The relevant briefing book materials include:

• NMFS report 1 on to salmon bycatch in the groundfish fishery

• NMFS report 2, the 2006 supplemental biological opinion,

• NMFS supplemental powerpoint

The Council's June 2015 briefing book document is available on line at www.pcouncil.org/resources/archives/briefing-books/june-2015-briefing-book/#gfJun2015.

c. What if I cannot attend this Webinar? A video presentation will be available online at www.westcoast.fisheries.noaa.gov/fisheries/groundfish/index.html. Interested persons are welcome to watch the online video presentation and submit written comments by email to GroundfishBO2015.wcr@noaa.gov by noon August 7, 2015.

Background

The groundfish fishery is a year-round, multi-species fishery occurring off the coasts of Washington, Oregon, and California. Salmon are encountered as bycatch by vessels fishing for groundfish. NMFS is in the process of evaluating the groundfish fishery's interaction with salmon, including ESA-listed salmon. The purpose of the Webinar is to engage with stakeholders and management entities on information relative to managing impacts to salmon from the groundfish fisheries.

On January 22, 2013, the NMFS West Coast Region's Sustainable Fisheries Division requested reinitiation of ESA section 7 consultation addressing the groundfish fishery's effects on ESA-listed salmon. The request was based on the evolution of the shorebased trawl fishery under the trawl rationalization framework, and new estimates of Chinook and coho salmon catch in the nearshore fixed gear fisheries (open access and limited entry fisheries) and limited entry sablefish fishery. In October 2014, catch of Chinook in the Pacific whiting fisheries in aggregate exceeded 11,000 Chinook, which is the amount of take anticipated under the existing biological opinion. That exceedance also required reinitiation of consultation. Therefore, the reinitiated consultation will address the effects of all fishing under the Pacific Coast Groundfish Fishery Management Plan on listed salmon species.

NMFS is seeking information on whether stakeholders anticipate changes in the prosecution of the groundfish fishery in the next few years and how those changes may alter the amount and distribution of salmon bycatch and its management in the different sectors. For example, the fishery may change as a result of greater access to rebuilt species and greater flexibility under the individual fishing quota (IFQ) program. These changes may affect the amount and patterns of salmon bycatch. NMFS is also interested in stakeholder input on the types of measures that stakeholders believe could minimize salmon bycatch while allowing flexibility in the groundfish fishery. NMFS intends to consider this information when refining the description of the proposed action under consultation and evaluating the anticipated effects of the fishery on ESA-listed salmonids.

Authority: 16 U.S.C. 1801 et seq.

Dated: July 13, 2015.
Emily H. Menashes,
Acting Director, Office of Sustainable Fisheries, National Marine Fisheries Service.

[FR Doc. 2015-17457 Filed 7-15-15; 8:45 am]

BILLING CODE 3510-22-P